DEPARTMENT OF AGRICULTURE

Submission for OMB Review; Comment Request

September 9, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Fee Envelope; Rules of Occupancy for Short-Term, Non-Commercial Use of Government Facilities.

OMB Control Number: 0596-0106.

Summary of Collection: The Federal Lands Recreation and Enhancement Act (16 U.S.C. 6801-6814) authorizes the Forest Service (FS) to collect recreation fees for use of government facilities and services. Every year millions of people visit National Forest System recreations sites. At some of these sites, the public is required to pay a fee to use the site. Fees are charged to help cover the costs of operating and maintaining fee sites, areas, and facilities such as campgrounds. The Forest Service (FS) used the Recreation Fee Permit Envelope for collection of these fees. Two forms (FS 2300-26, Fee Envelopes and FS 2300-43, Permit for Short-Term, Non-commercial Use of Government-Owned Cabins and Lookouts) are used to collect information from visitors.

Need and Use of the Information: Personal information such as names, addresses, telephone number, length of stay, amount paid, requested dates of occupancy, party size and vehicle registration are collected. FS will collect information from the forms to document when visitors pay a required recreation fee and to schedule requests for use and occupancy of government owned facilities.

Description of Respondents: Individuals or households.

Number of Respondents: 2,100,500.

Frequency of Responses: Reporting: Other (per visit).

Total Burden Hours: 105,125.

Charlene Parker,
Departmental Information Collection Clearance Officer.

[FR Doc. E9-22031 Filed 9-11-09; 8:45 am]

BILLING CODE 3410-11-P